DEPARTMENT OF ENERGY

Federal Energy Regulatory Commission

[Docket No. EL05-63-000]

DTE Energy Trading, Inc., Complainant v. Midwest Independent Transmission System Operator, Inc., Respondent; Notice of Complaint

February 17, 2005.

Take notice that on February 16, 2005, DTE Energy Trading, Inc. (DTET) filed a formal complaint against the Midwest Independent Transmission System Operator, Inc. (MISO). DTET requests that the Commission find that MISO is unlawfully charging firm Point-to-Point customers excessive and unauthorized charges for transmission service redirected to such customers on a non-firm basis, in violation of section 22 of MISO's currently effective Open Access Transmission Tariff (OATT) and the FPA. DTET also requests that the Commission order MISO to refund to DTET, with interest, all amounts assessed in excess of the charges currently authorized for redirected service under MISO's OATT.

DTET certifies that a copy of this complaint was served to the counsel for the MISO.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: March 9, 2005.

Linda Mitry,
Deputy Secretary.

[FR Doc. E5-750 Filed 2-23-05; 8:45 am]

BILLING CODE 6717-01-P